DEPARTMENT OF COMMERCE

National Oceanic and Atmospheric Administration

[I.D. 041001B]

Re-opening of Comment Period for the Draft Environmental Impact Statement (DEIS) for the Habitat Conservation Plans (HCP’s) proposed for Public Utility District No. 1 of Douglas County, WA, and the Public Utility District No. 1 of Chelan County, WA

AGENCY: National Marine Fisheries Service (NMFS), National Oceanic and Atmospheric Administration (NOAA), Commerce.

ACTION: Re-opening of comment period.

SUMMARY: NMFS is re-opening the comment period for the DEIS for the HCP’s proposed for Public Utility District No. 1 of Douglas County, WA, and the Public Utility District No. 1 of Chelan County, WA. NMFS has received several requests to extend the comment period. NMFS has determined that these requests are reasonable and has re-opened the comment period to facilitate the receipt of the public’s views on the DEIS. The original announcement of the notice of availability of the DEIS for the HCP’s was published in the Federal Register on December 29, 2000.

DATES: Written comments on the DEIS must be received on or before May 1, 2001.

ADDRESSES: For copies of the DEIS, or to provide written comments, contact: Robert Dach, National Marine Fisheries Service, Northwest Region, Hydro Program, 525 NE Oregon Street, Suite 420, Portland, OR 97232-2737. Comments may also be sent via fax to 503/231-2318. Comments will not be accepted if submitted via e-mail or the Internet.

The DEIS and the proposed HCPs are available for review via the Internet at www.nwr.noaa.gov/1hydrop/hydroweb/ferc.htm (under the “Related Documents” heading).

FOR FURTHER INFORMATION CONTACT: Mr. Robert Dach at phone number: 503/736-4734, or e-mail:Robert.Dach@noaa.gov.

SUPPLEMENTARY INFORMATION:

Background

The notice of availability of the DEIS for comment was published on December 29, 2000 (65 FR 82976-82977). Since that time, NMFS had received numerous requests to extend the comment period. Requests have been received from the Department of Interior, the Environmental Protection Agency, several non-governmental organizations, and Native American Tribes. NMFS determined that these requests were reasonable, is re-opening the comment period, and is soliciting specific information, comments, data, and/or recommendations on any aspect of the DEIS.

Dated: April 10, 2001.
Karen Salvini,
Acting Chief, Endangered Species Division, Office of Protected Resources, National Marine Fisheries Service.

[FR Doc. 01-9386 Filed 4-13-01; 8:45 am]

BILLING CODE 3510-22-S